DEPARTMENT OF AGRICULTURE

Animal and Plant Health Inspection Service

[Docket No. APHIS-2007-0046]

Notice of Request for Extension of Approval of an Information Collection; National Animal Health Monitoring System; Small Enterprise Chicken Study 2007

AGENCY: Animal and Plant Health Inspection Service, USDA.

ACTION: Extension of approval of an information collection; comment request.

SUMMARY: In accordance with the Paperwork Reduction Act of 1995, this notice announces the Animal and Plant Health Inspection Service's intention to request an extension of approval of an information collection activity to support the National Animal Health Monitoring System's national Small Enterprise Chicken Study.

DATES: We will consider all comments that we receive on or before July 9, 2007.

ADDRESSES: You may submit comments by either of the following methods:

• Federal eRulemaking Portal: Go to http://www.regulations.gov, select “Animal and Plant Health Inspection Service” from the agency drop-down menu, then click “Submit.” In the Docket ID column, select APHIS-2007-0046 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0046, Regulatory Analysis and Development, PPD, APHIS, Station 3A-03.8, 4700 River Road Unit 118, Riverdale, MD 20737-1238. Please state that your comment refers to Docket No. APHIS-2007-0046.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Small Enterprise Chicken Study, contact Mrs. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS' Information Collection Coordinator, at (301) 734-7477.

SUPPLEMENTARY INFORMATION: Title: National Animal Health Monitoring System; Small Enterprise Chicken Study 2007.

OMB Number: 0579-0260.

Type of Request: Extension of approval of an information collection.

Abstract: The Animal and Plant Health Inspection Service (APHIS) of the United States Department of Agriculture is authorized, among other things, to protect the health of our Nation's livestock and poultry populations by preventing the introduction and interstate spread of serious diseases of poultry and for eradicating such diseases from the United States when feasible. In connection with this mission, APHIS operates the National Animal Health Monitoring System (NAHMS), which collects, on a national basis, statistically valid and scientifically sound data on the prevalence and economic importance of livestock and poultry diseases and associated risk factors.

NAHMS' national studies have evolved into a collaborative industry and government initiative to help determine the most effective means of preventing and controlling diseases of poultry. APHIS is the only agency responsible for collecting national data on poultry health. Participation in any NAHMS study is voluntary, and all data are confidential.

APHIS plans to conduct the Small Enterprise Chicken Study for operations with 1,000 to 19,999 chickens as part of an ongoing series of NAHMS studies on the U.S. poultry population. The purpose of this study is to collect information, through a questionnaire, in order to:

• Describe characteristics of small enterprise operations, including bird species on hand, seasonal inventory, and marketing of free-range chickens or eggs, and organic or other niche-market products.

• Describe movements of animals, people, waste products, vehicles, and equipment on and off operations, and estimate the distances associated with these movements.

• Examine biosecurity practices, including bird access to the outdoors.

The questionnaire will be administered via postal mail, with followup telephone interviews for those who do not respond.

The information collected through the Small Enterprise Chicken Study will be analyzed and organized into descriptive reports. Information sheets will be derived from these reports, and the data will be disseminated to and may be used by a variety of constituents, including producers, stakeholders, academia, and others. This information will be used to develop parameters for the North American Animal Disease Spread Model (NAADSM), the Multiscale Epidemiologic/Economic Simulation and Analysis (MESA) model, and possibly other models. These disease simulation models examine how a contagious disease may spread in an animal population. The information collected from this study will also be used to develop background information on the small enterprise segment of the poultry industry. The potential benefit to the industry is a scientifically valid description of management, marketing, and biosecurity practices of the Nation's small enterprise chicken industry. The study will assist in understanding the mechanisms of disease spread by developing background information on the small enterprise chicken industry.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5 hours per response.

Respondents: Producers with 1,000 to 19,999 chickens.

Estimated annual number of respondents: 2,500.

Estimated annual number of responses per respondent: 1.

Estimated annual number of responses: 2,500.

Estimated total annual burden on respondents: 1,250 hours. (Due to averaging, the total annual burden hours may not equal the product of the annual number of responses multiplied by the reporting burden per response.)

All responses to this notice will be summarized and included in the request for OMB approval. All comments will also become a matter of public record.

Done in Washington, DC, this 2nd day of May 2007.
Kevin Shea,
Acting Administrator, Animal and Plant Health Inspection Service.

[FR Doc. E7-8801 Filed 5-7-07; 8:45 am]

BILLING CODE 3410-34-P